DEPARTMENT OF HOMELAND SECURITY

Coast Guard

33 CFR 166 and 167

[Docket No. USCG-2019-0279]

RIN 1625-AC57

Shipping Safety Fairways Along the Atlantic Coast Public Meeting

AGENCY: Coast Guard, DHS.

ACTION: Notification of public meeting and extension of comment period.

SUMMARY: The Coast Guard has decided to host a public meeting regarding the proposed establishment of shipping safety fairways along the Atlantic coast. In addition, the Coast Guard is extending the comment period on the proposed rule in order to allow participants in the public meeting sufficient time to prepare their comment submissions.

DATES: The comment period for the proposed rule published January 19, 2024, at 89 FR 3587, is extended. Comments should be received on or before May 17, 2024. The meeting will be held on April 17, 2024 at 6 p.m.

ADDRESSES: The meeting will be held at 101 Vera King Farris Drive, Galloway, NJ 08205 in the L-Wing Building, Classroom 112.

FOR FURTHER INFORMATION CONTACT: For information about this document call or email Brian Mottel, Coast Guard; telephone 206-815-4657, email David.b.mottel2@uscg.mil.

SUPPLEMENTARY INFORMATION: The Coast Guard published a notice of proposed rulemaking (NPRM) on January 19, 2024, proposing the establishment of shipping safety fairways along the Atlantic coast. 89 FR 3587. The proposed rule is intended to protect traditional shipping routes as well as to help facilitate development on the outer continental shelf (OCS). Since publication, we've received multiple requests from commenters requesting further public engagement from the Coast Guard. The Coast Guard is committed to the meaningful participation of stakeholders in the rulemaking process and to receiving the highest quality input and expertise that the private sector has to offer. In that spirit, we have decided to host a public meeting to gather further information on the potential impacts of the proposed fairways.

The meeting will be hosted at Stockton University at 6 p.m. on April 17, 2024. The meeting will be held at 101 Vera King Farris Drive, Galloway, NJ 08205 in the L-Wing Building, Classroom 112. The meeting will consist of a brief presentation by the Coast Guard followed by the submissions of public comments. This is not a question-and-answer session, but an opportunity for the public to hear from the Coast Guard and to provide feedback on the proposed fairways.

This document also extends the comment period for the Shipping Safety Fairways along the Atlantic Coast NPRM for 30 days in order to allow the public to gather their thoughts following the public meeting. The extended comment period will close on May 17, 2024. This document is issued under authority found in 5 U.S.C. 552(a).

Dated: March 18, 2024.
K.J. Boda,
Deputy Director, Marine Transportation System.

[FR Doc. 2024-06225 Filed 3-22-24; 8:45 am]

BILLING CODE 9110-04-P